DEPARTMENT OF AGRICULTURE

Rural Utilities Service

[Docket No. RUS-20-ELECTRIC-0049]

Notice of Request for Extension of a Currently Approved Information Collection

AGENCY: Rural Utilities Service, USDA.

ACTION: Notice and request for comments.

SUMMARY: In accordance with the Paperwork Reduction Act of 1995, this notice announces the intention of Rural Utilities Service (RUS) to request an extension to a currently approved information collection for which RUS intends to request approval from the Office of Management and Budget (OMB).

DATES: Comments on this notice must be received by March 12, 2021 to be assured of consideration.

FOR FURTHER INFORMATION CONTACT: Robert Coates, Electric Program, Rural Utilities Service, U.S. Department of Agriculture, 1400 Independence Ave. SW, Washington, DC 20250, Telephone: (202) 260-5415, Email: Robert.Coates@usda.gov.

SUPPLEMENTARY INFORMATION: The OMB regulation (5 CFR 1320) implementing provisions of the Paperwork Reduction Act of 1995 (Pub. L. 104-13) requires that interested members of the public and affected agencies have an opportunity to comment on information collection and recordkeeping activities (see 5 CFR 1320.8(d)). This notice identifies an existing information collection that the Agency is submitting to OMB for extension. Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including the use of appropriate automated, electronic, mechanical, or other technological collection techniques or other forms of information technology. Comments may be sent through the Federal eRulemaking Portal: Go to http://www.regulations.gov and, in the “Search” box, enter the Docket ID No “RUS-20-ELECTRIC-0049” to submit or view public comments and to view supporting and related materials available electronically. Information on using Regulations.gov, including instructions for accessing documents, submitting comments, and viewing the docket after the close of the comment period, is available through the site's “Help” button at the top of the page.

Title: Assistance to High Energy Cost Rural Communities.

OMB Number: 0572-0136.

Expiration Date of Approval: June 30, 2021.

Type of Request: Extension of a currently approved information collection.

Abstract: The Rural Electrification Act of 1936 (RE Act) (7 U.S.C. 901 et seq.) was mended in November 2000 to create a new program to help rural communities with extremely high energy costs (Pub. L. 106-472). Under the new section 19 of the RE Act (7 U.S.C. 918a), the Secretary of Agriculture through RUS, is authorized to provide financial assistance.

Estimate of Burden: Public reporting burden for this collection of information is estimated to average 3.4 hours per response.

Respondents: Business or other for-profit, not-for-profit institutions, State, Local, or Tribal Government.

Estimated Number of Respondents: 60.

Estimated Number of Responses: 344

Estimated Number of Responses per Respondent: 5.73.

Estimated Total Annual Burden on Respondents: 1,172.

Copies of this information collection can be obtained from Kimble Brown, Management Analyst, Innovation Center, Regulations Management Division, at (202) 720-6780. All responses to this notice will be summarized and included in the request for OMB approval. All comments will also become a matter of public record.

Chad Rupe,
Administrator, Rural Utilities Service.

[FR Doc. 2021-00291 Filed 1-8-21; 8:45 am]

BILLING CODE P